DEPARTMENT OF DEFENSE

Office of the Secretary

[Docket ID DoD-2013-OS-0055]

Notice of Availability of Environmental Assessment and Draft Finding of No Significant Impact Regarding DLA Energy's Mobility Fuel Purchasing Programs

AGENCY: Defense Logistics Agency Energy (DLA Energy), DoD.

ACTION: Finding of no significant impact.

SUMMARY: As required under the National Environmental Policy Act (NEPA) (42 U.S.C. 4321 et seq.), an environmental assessment (EA) has been prepared to assess the potential environmental impacts associated with the proposed action to continue DLA Energy's current domestic mobility fuel purchase programs. DLA Energy currently operates two programs for mobility fuel contracts, Direct Delivery Fuels (DDF) and Bulk Petroleum, which were considered as part of the EA. The EA also analyzed the no-action alternative. Based on the analysis in the EA, DLA Energy has determined that the proposed action is not a major federal action significantly affecting the quality of the human environment within the context of NEPA. Therefore, the preparation of an environmental impact statement (EIS) is not required.

DATES: Comments on the Draft Finding of No Significant Impact must be postmarked or emailed by April 22, 2013.

ADDRESSES: You may submit comments, identified by the docket ID and title, by any of the following methods:

• Federal eRulemaking Portal: http://www.regulations.gov. Follow the instructions for submitting comments.

• Email: NEPA@dla.mil. Include the docket ID in the subject line of the message.

• Mail: Project Manager for NEPA, DLA Installation Support for Energy, 8725 John J. Kingman Road, Suite 2828, Fort Belvoir, VA 22060.

Note: Before including your address, phone number, email address, or other personal identifying information in your comment, be advised that your entire comment, including your personal identifying information, may be made publicly available at any time. While you can ask in your comment to withhold from public review your personal identifying information, we cannot guarantee that we will be able to do so.

FOR FURTHER INFORMATION CONTACT: Copies of this FONSI, the accompanying EA, and further information concerning the proposed action are available from: Project Manager for NEPA, DLA Installation Support for Energy, 8725 John J. Kingman Road, Suite 2828, Fort Belvoir, VA 22060, (703) 767-8312, NEPA@dla.mil. Additional information about the NEPA process can be obtained from the Council on Environmental Quality at http://ceq.hss.doe.gov/.

SUPPLEMENTARY INFORMATION: Need for the Proposed Action: DLA Energy is proposing to continue purchases of mobility fuels on behalf of the U.S. Department of Defense (DOD) and other government agencies. The purpose of the proposed action is to fulfill DLA Energy's mission to provide DOD and other government agencies with energy solutions in the most effective and efficient manner possible. The program is needed to fulfill the mobility fuel requirements of the military services and the federal civilian agencies.

Proposed Action: As authorized by federal regulation (10 U.S.C. chapter 137, and DOD Directives 4140.25, 5101.8, and 4140.26-M), DLA Energy acquires and distributes nearly all of the refined petroleum, oil, and lubricants used by the U.S. military through contracting programs that follow the policies defined in the Federal Acquisition Regulation and the Defense Federal Acquisition Regulation Supplement. DLA Energy currently operates two programs for mobility fuel contracts, DDF and Bulk Petroleum, which were considered as part of the EA.

Alternatives Considered: The EA for DLA Energy's Mobility Fuel Purchase Programs, November 2012, evaluates the proposed action and the no-action alternative. Other alternatives were reviewed during the EA development process under the requirements of NEPA but were eliminated from further detailed analysis in the EA because they did not meet the stated purpose and need for the action or were not practicable, for the reasons stated in the EA. The only practicable alternative is described in the “Proposed Action” section. The no-action alternative is the same as the proposed action; discontinuing DLA Energy's mobility fuel purchase programs is not reasonable.

Potential Environmental Impacts: The attached EA presents assessments of potential impacts to human health and the human environment. DLA Energy evaluated the following resources for potential impacts associated with the proposed action, as described below: Energy; transportation and infrastructure; air quality, including greenhouse gas (GHG) emissions; safety and human health; aquatic and terrestrial resources; and cultural resources.

Energy—With DLA Energy mobility fuel procurements representing 2 percent of the domestic mobility fuels market, and DLA Energy's continued efforts to procure, certify, and approve alternative fuels, the proposed action would have a negligible effect on the national energy market. The proposed action would have a negligible effect on the acquisition, handling, and processing of any crude oil feedstock including heavy crudes.

Transportation and Infrastructure—Under the proposed action, DLA would continue using existing transport systems and does not propose any specific structural changes to the national transportation infrastructure; any future structural modifications would undergo NEPA review on a case-by-case basis. In compliance with established regulations, the proposed action would have a negligible effect on transportation and infrastructure.

Air Quality—Unlike emissions from specific DOD services, emissions associated with the proposed action would not be attributable to a particular installation; emissions associated with the distribution of fuel to DLA Energy customers would be transient and distributed nationally. Forty-nine percent of DLA domestic fuel transport, by volume, occurs through pipelines, which have negligible GHG emissions in comparison to other transportation modes. The other 51 percent of DLA domestic fuel, by volume, is transported using mobile sources (truck, rail, and marine). DLA Energy's implementation of a systemic change to the use of commercial standard Jet A aviation fuel in most aircraft could significantly reduce fuel transport distances and associated emissions. Within the project scope and in compliance with federal, state, and local regulations, criteria air pollutant and GHG emissions would be negligible.

Safety and Human Health—Risks to health and safety are minimal if the operations comply with applicable regulations, release detection is properly planned, and response actions are undertaken swiftly. Under the proposed action, DLA would continue to use existing and highly regulated methods of fuel transportation and storage, including the current safety policies. The proposed action would have a negligible impact on human health and safety.

Aquatic, Terrestrial, and Cultural Resources—Transport and storage of fuel products is highly regulated. DLA Energy's customers are military installations and federal agencies that comply separately with biological and cultural resource protection requirements. Under the proposed action, DLA would continue using existing commercial methods for fuel distribution; any future structural modifications would undergo NEPA review on a case-by-case basis. Within the project scope and in compliance with established regulations, the proposed action would have no effects on aquatic and terrestrial resources, including threatened and endangered species. The proposed action would have no effects on cultural resources, including historic properties. Based on the analysis of the potential impacts to the human environment, the EA concludes that the proposed action would produce no significant adverse impacts.

Determination: Based on the results of the analyses performed during the preparation of the EA, I conclude that the proposed action does not constitute a major federal action significantly affecting the quality of the human environment within the context of NEPA. Therefore, an EIS for the proposed action is not required.

Dated: March 18, 2013.
Aaron Siegel,
Alternate OSD Federal Register Liaison Officer, Department of Defense.

[FR Doc. 2013-06535 Filed 3-20-13; 8:45 am]

BILLING CODE 5001-06-P